INTERNATIONAL TRADE COMMISSION

[USITC SE-09-023]

Government in the Sunshine Act Meeting Notice

Agency Holding The Meeting: United States International Trade Commission.

Time and Date: August 18, 2009 at 2 p.m.

Place: Room 101, 500 E Street, SW., Washington, DC 20436, Telephone: (202) 205-2000.

Status: Open to the public.

Matters To Be Considered:

1. Agenda for future meetings: None.

2. Minutes.

3. Ratification List.

4. Inv. Nos. 701-TA-458 and 731-TA-1154 (Final) (Certain Kitchen Appliance Shelving and Racks from China)—briefing and vote. (The Commission is currently scheduled to transmit its determinations and Commissioners' opinions to the Secretary of Commerce on or before August 31, 2009.)

5. Outstanding action jackets: None.

In accordance with Commission policy, subject matter listed above, not disposed of at the scheduled meeting, may be carried over to the agenda of the following meeting. Earlier announcement of this meeting was not possible.

By order of the Commission.
Issued: August 3, 2009.
William R. Bishop,
Hearings and Meetings Coordinator.

[FR Doc. E9-19178 Filed 8-6-09; 11:15 am]

BILLING CODE 7020-02-P